DEPARTMENT OF HEALTH AND HUMAN SERVICES

Centers for Disease Control and Prevention

[60Day-04-36]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333. Written comments should be received within 60 days of this notice.

Proposed Project

Syndromic Surveillance Capacity—New—National Center for Infectious Diseases (NCID), Centers for Disease Control and Prevention (CDC). Syndromic surveillance is a term used to describe a broad spectrum of activities intended to detect a disease outbreak earlier than traditional reportable disease surveillance. These activities involve the collection and analysis of multiple types of data indicating prodromal signs and symptoms of disease. These data generally precede diagnosis or laboratory confirmation.

It is estimated that as many as 100 State or local health departments have begun collecting one or more types of syndromic data to enhance their early detection capabilities. CDC provides support to State and local health departments in the form of surveillance expertise, analytical methods, and information technology. In order to assess the use and effectiveness of the various types of syndromic surveillance being piloted at the State and local level, CDC must collect information on the types and number of data sources, methods of collection and analysis, time requirements, personnel requirements, and evaluations performed.

This project will consist of a web-based questionnaire available to pre-determined State and local health departments. Answers to ten multiple-choice questions with pull-down menus will be solicited. CDC will analyze the responses and use the information to facilitate coordination and planning of syndromic surveillance systems at the State and local level. There is no cost to the respondents.

Respondents | Number of respondents | Number of responses per respondent | Average burden per response (hours) | Total burden (hours)
1 | 100 | 10 | 6/60 | 100
Total |  |  |  | 100

Dated: March 29, 2004.
Joseph E. Salter,
Acting Director, Management Analysis and Services Office, Centers for Disease Control and Prevention.

[FR Doc. 04-7558 Filed 4-2-04; 8:45 am]

BILLING CODE 4163-18-P